DEPARTMENT OF ENERGY

Request for Information Regarding the Manufacturing Capital Connector; Extension of Comment Period

AGENCY: Office of Manufacturing and Energy Supply Chains, Department of Energy.

ACTION: Request for information; extension of comment period.

SUMMARY: On February 9, 2024, the U.S. Department of Energy (DOE) published a request for information (RFI) seeking comment on a notional Manufacturing Capital Connector (MCC) to support applicants seeking clean energy manufacturing funding opportunities and/or tax credits. The RFI established a March 4, 2024, deadline for the submission of written comments. DOE is extending the comment period to March 15, 2024.

DATES: The comment period for the RFI published on February 9, 2024 (89 FR 9132) is extended. DOE will accept comments responding to this RFI submitted on or before March 15, 2024.

ADDRESSES: Interested parties may submit comments electronically to CapitalConnector-RFI@hq.doe.gov.

FOR FURTHER INFORMATION CONTACT: Questions may be addressed to Rachel Gould, CapitalConnector-RFI@hq.doe.gov or (202) 586-6116.

SUPPLEMENTARY INFORMATION: On February 9, 2024, the U.S. Department of Energy (DOE) published a request for information (RFI) in the Federal Register (89 FR 9132). DOE issued this RFI to gauge interest in, and invite input on the design of, a notional Manufacturing Capital Connector (MCC) that would support applicants seeking clean energy manufacturing funding opportunities and/or tax credits. To help inform the interest in and design of the MCC for clean energy manufacturing programs, DOE is seeking public input on the potential structure, benefits, and risks of the proposed MCC from potential capital providers and clean energy manufacturing program applicants or selectees. The RFI specifically welcomes comment in response to a series of questions aimed at applicants or selectees and at potential capital providers.

Signing Authority

This document of the Department of Energy was signed on February 28, 2024, by Giulia Siccardo, Director, Office of Manufacturing and Energy Supply Chains, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 28, 2024.
Treena V. Garrett,
Federal Register Liaison Officer,U.S. Department of Energy.

[FR Doc. 2024-04508 Filed 3-1-24; 8:45 am]

BILLING CODE 6450-01-P